DEPARTMENT OF TRANSPORTATION

Federal Aviation Administration

14 CFR Part 39

[Docket No. FAA-2004-19448; Directorate Identifier 2004-NM-134-AD]

RIN 2120-AA64

Airworthiness Directives; McDonnell Douglas Model MD-90-30 Airplanes

AGENCY: Federal Aviation Administration (FAA), DOT.

ACTION: Notice of proposed rulemaking (NPRM).

SUMMARY: The FAA proposes to adopt a new airworthiness directive (AD) for all McDonnell Douglas Model MD-90-30 airplanes. This proposed AD would require replacing, with improved parts, certain existing fluorescent light lamp holders located in the ceiling panels and life raft ceiling support housings, and behind the overhead stowage compartments in the main cabin. This proposed AD is prompted by reports of failure of fluorescent light lamp holders in the main cabin. We are proposing this AD to prevent chafing of the lamp holder power wire against the mounting bracket, and moisture intrusion into the lamp holders, which could result in failure of the lamp holders and consequent smoke and fire in the airplane cabin.

DATES: We must receive comments on this proposed AD by December 10, 2004.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• By fax: (202) 493-2251.

• Hand Delivery: Room PL-401 on the plaza level of the Nassif Building, 400 Seventh Street, SW., Washington, DC, between 9 a.m. and 5 p.m., Monday through Friday, except Federal holidays.

For service information identified in this proposed AD, contact Boeing Commercial Airplanes, Long Beach Division, 3855 Lakewood Boulevard, Long Beach, California 90846, Attention: Data and Service Management, Dept. C1-L5A (D800-0024).

You can examine the contents of this AD docket on the Internet at http://dms.dot.gov, or at the Docket Management Facility, U.S. Department of Transportation, 400 Seventh Street, SW., room PL-401, on the plaza level of the Nassif Building, Washington, DC.

FOR FURTHER INFORMATION CONTACT: Technical information: George Mabuni, Aerospace Engineer, Systems and Equipment Branch, ANM-130L, FAA, Los Angeles Aircraft Certification Office, 3960 Paramount Boulevard, Lakewood, California 90712-4137; telephone (562) 627-5341; fax (562) 627-5210.

Plain language information: Marcia Walters, marcia.walters@faa.gov.

SUPPLEMENTARY INFORMATION:

Docket Management System (DMS)

The FAA has implemented new procedures for maintaining AD dockets electronically. As of May 17, 2004, new AD actions are posted on DMS and assigned a docket number. We track each action and assign a corresponding directorate identifier. The DMS AD docket number is in the form “Docket No. FAA-2004-99999.” The Transport Airplane Directorate identifier is in the form “Directorate Identifier 2004-NM-999-AD.” Each DMS AD docket also lists the directorate identifier (“Old Docket Number”) as a cross-reference for searching purposes.

Comments Invited

We invite you to submit any relevant written data, views, or arguments regarding this proposed AD. Send your comments to an address listed under ADDRESSES. Include “Docket No. FAA-2004-19448; Directorate Identifier 2004-NM-134-AD” in the subject line of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You can review DOT's complete Privacy Act Statement in the Federal Register published on April 11, 2000 (65 FR 19477-78), or you can visit http://dms.dot.gov.

We are reviewing the writing style we currently use in regulatory documents. We are interested in your comments on whether the style of this document is clear, and your suggestions to improve the clarity of our communications that affect you. You can get more information about plain language at http://www.faa.gov/language and http://www.plainlanguage.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

We have received reports of failure of certain fluorescent light lamp holders that are installed in the ceiling panels and life raft ceiling support housings and behind the overhead stowage compartments in the main cabin on all McDonnell Douglas MD-90-30 airplanes. The failures have been attributed to chafing of the lamp holder power wire against the mounting bracket, and moisture intrusion into the lamp holders. Failure of the lamp holders, if not corrected, could result in smoke and fire in the airplane cabin.

Relevant Service Information

We have reviewed Boeing Alert Service Bulletin MD90-33A012, Revision 3, dated January 14, 2004. The service bulletin describes procedures for replacing existing Page Aerospace Limited fluorescent light lamp holders located in the ceiling panels and life raft ceiling support housings with improved Bruce Industries Incorporated lamp holders. Boeing Alert Service Bulletin MD90-33A012, Revision 3, refers to C & D Aerospace Alert Service Bulletin 59406XX-25A01 as an additional source of service information for accomplishing the replacement. The current version of that C&D Aerospace service bulletin is Revision 4, dated July 31, 2003.

We have also reviewed Boeing Alert Service Bulletin MD90-33A013, dated November 29, 2001. The service bulletin describes procedures for replacing existing Page Aerospace Limited fluorescent light lamp holders located behind the overhead stowage compartments in the main cabin with improved Bruce Industries Incorporated lamp holders. Boeing Alert Service Bulletin MD90-33A013 refers to C & D Aerospace Alert Service Bulletin 51310XX-25A01 as an additional source of service information for accomplishing the replacement. The current version of that C&D Aerospace service bulletin is Revision 5, dated March 30, 2004.

Accomplishing the actions specified in the Boeing service bulletins is intended to adequately address the unsafe condition.

FAA's Determination and Requirements of the Proposed AD

We have evaluated all pertinent information and identified an unsafe condition that is likely to exist or develop on other airplanes of this same type design. Therefore, we are proposing this AD, which would require replacing, with improved parts, certain existing fluorescent light lamp holders in the ceiling panels and life raft ceiling support housings, and behind the overhead stowage compartments in the main cabin. The proposed AD would require you to use the service information described previously to perform these actions.

Costs of Compliance

This proposed AD would affect about 84 airplanes worldwide and 21 airplanes of U.S. registry. The proposed actions would take about 98 work hours per airplane, at an average labor rate of $65 per work hour. Required parts would cost about $27,158 per airplane. Based on these figures, the estimated cost of the proposed AD for U.S. operators is $704,088, or $33,528 per airplane.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

McDonnell Douglas: Docket No. FAA-2004-19448; Directorate Identifier 2004-NM-134-AD.

Comments Due Date

(a) The Federal Aviation Administration (FAA) must receive comments on this AD action by December 10, 2004.

Affected ADs

(b) None.

Applicability

(c) This AD applies to all Model MD-90-30 airplanes, certificated in any category.

Unsafe Condition

(d) This AD was prompted by reports of failure of fluorescent light lamp holders in the main cabin. We are issuing this AD to prevent chafing of the lamp holder power wire against the mounting bracket, and moisture intrusion into the lamp holders, which could result in failure of the lamp holders and consequent smoke and fire in the airplane cabin.

Compliance

(e) You are responsible for having the actions required by this AD performed within the compliance times specified, unless the actions have already been done.

Replacement

(f) Within 18 months after the effective date of this AD, replace existing fluorescent light lamp holders manufactured by Page Aerospace Limited, with improved parts manufactured by Bruce Industries Incorporated, as specified in Table 1 of this AD.

Table 1.—Replacement of Lamp Holders
Replace lamp holders in these locations— | In accordance with this service information— | Which refers to this service information as an additional source of replacement instructions—
(1) Ceiling panels and life raft ceiling support housings | Boeing Alert Service Bulletin MD90-33A012, Revision 3, dated January 14, 2004 | C & D Aerospace Alert Service Bulletin 59406XX-25A01; currently at Revision 4, dated July 31, 2003.
(2) Sidewall behind the overhead stowage compartments in the main cabin | Boeing Alert Service Bulletin MD90-33A013, dated November 29, 2001 | C & D Aerospace Alert Service Bulletin C & D Aerospace Alert Service Bulletin 51310XX-25A01; currently at Revision 5, dated March 30, 2004.

Parts Installation

(g) As of the effective date of this AD, no person may install a fluorescent light lamp holder manufactured by Page Aerospace Limited, in the locations specified in this AD, on any airplane.

Replacements Accomplished Per Previous Issues of Service Bulletin

(h) Replacements accomplished before the effective date of this AD per the Accomplishment Instructions of Boeing Alert Service Bulletin MD90-33A012, dated March 28, 2001; Revision 01, dated September 17, 2001; or Revision 02, dated January 17, 2002; are considered acceptable for compliance with paragraph (f) of this AD.

Alternative Methods of Compliance (AMOCs)

(i) The Manager, Los Angeles Aircraft Certification Office (ACO), FAA, has the authority to approve AMOCs for this AD, if requested in accordance with the procedures found in 14 CFR 39.19.

Issued in Renton, Washington, on October 18, 2004.
Kalene C. Yanamura,
Acting Manager, Transport Airplane Directorate, Aircraft Certification Service.

[FR Doc. 04-23930 Filed 10-25-04; 8:45 am]

BILLING CODE 4910-13-P